DEPARTMENT OF ENERGY

Federal Energy Regulatory Commission

Combined Notice of Filings

Take notice that the Commission has received the following Natural Gas Pipeline Rate and Refund Report filings:

Filings Instituting Proceedings

Docket Numbers: RP15-256-000.

Applicants: Cimarron River Pipeline, LLC.

Description: Compliance filing per 154.203: Order to Show Cause—Corrected Tariff Effective Date to be effective 10/16/2014.

Filed Date: 12/10/14.

Accession Number: 20141210-5090.

Comments Due: 5 p.m. ET 12/22/14.

Docket Numbers: RP15-257-000.

Applicants: Dauphin Island Gathering Partners.

Description: Compliance filing per 154.203: Order to Show Cause—Corrected Tariff Effective Date to be effective 10/16/2014.

Filed Date: 12/10/14.

Accession Number: 20141210-5091.

Comments Due: 5 p.m. ET 12/22/14.

Docket Numbers: RP15-258-000.

Applicants: Natural Gas Pipeline Company of America.

Description: § 4(d) rate filing per 154.204: Nicor Gas Negotiated Rate to be effective 12/10/2014.

Filed Date: 12/10/14.

Accession Number: 20141210-5122.

Comments Due: 5 p.m. ET 12/22/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-903-001.

Applicants: SG Resources Mississippi, L.L.C.

Description: Compliance filing per 154.203: Revised Show Cause Order Compliance Filing to be effective 10/16/2014.

Filed Date: 12/10/14.

Accession Number: 20141210-5133.

Comments Due: 5 p.m. ET 12/22/14.

Docket Numbers: RP14-904-001.

Applicants: Pine Prairie Energy Center, LLC.

Description: Compliance filing per 154.203: Revised Show Cause Order Compliance Filing to be effective 10/16/2014.

Filed Date: 12/10/14.

Accession Number: 20141210-5132.

Comments Due: 5 p.m. ET 12/22/14.

Docket Numbers: RP14-905-001.

Applicants: Bluewater Gas Storage, LLC.

Description: Compliance filing per 154.203: Revised Show Cause Order Compliance Filing to be effective 10/16/2014.

Filed Date: 12/10/14.

Accession Number: 20141210-5131.

Comments Due: 5 p.m. ET 12/22/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 11, 2014.
Nathaniel J. Davis, Sr.,
Deputy Secretary.

[FR Doc. 2014-29529 Filed 12-16-14; 8:45 am]

BILLING CODE 6717-01-P